Title 3—

The President

Proclamation 10159 of March 23, 2021

Education and Sharing Day, U.S.A., 2021

By the President of the United States of America

A Proclamation

If the isolation and loss of the last year has taught us anything, it is just how much we need each other, how intertwined our lives are, and how deeply we crave conversation, connection, and community. We are at our best when we work together and help our neighbors, whether down the road or around the world.

This lesson is at the heart of Education and Sharing Day, U.S.A., when we celebrate the role models, mentors, and leaders who devote themselves to the progress and success of each new generation, to reinforcing our common bonds, and to lifting up our highest ideals. Today, we mark the legacy of Rabbi Menachem Mendel Schneerson, the Lubavitcher Rebbe, a guiding light of the international Chabad-Lubavitch movement and a testament to the power and resilience of the human spirit. A witness to some of the 20th century's darkest events and greatest tragedies, he devoted his life to bringing healing by advancing justice, compassion, inclusivity, and fellowship worldwide. A tireless advocate for students of all ages, he sought to foster exchange, understanding, and unity among all people.

The global pandemic has brought some measure of struggle and sorrow to each of us, and amidst the larger tragedies—the tragic loss of so many lives and livelihoods—we have also missed the many small but meaningful moments that contribute to our shared humanity: a hug or handshake, a smile or a meal, the dignity of daily work, and the simple routines that give our lives greater structure and purpose. We have realized that one of the greatest gifts our schools give to our students and educators is time spent with each other—the daily opportunities to learn and grow together, face to face. There is no substitute for this experience and the wonder and wisdom it brings.

The American Rescue Plan will help to restore these connections. The plan dedicates the resources we need to defeat the pandemic and return to our lives and loved ones, and provides direct relief to families, small businesses, and communities. It also includes 130 billion dollars to help schools in every community reopen safely and soon, so that our children can return to the invaluable interactions with friends, teachers, and school staff that add up to so much more than the sum of their parts.

On this Education and Sharing Day, U.S.A., let us recommit ourselves to building an America that is more just, equal, unified, and prosperous. Let us leave our children a nation and a world that is better than the one we inherited—and, in the spirit of history's greatest teachers, let us help all of our students to love learning; seek lives of dignity, decency, and respect; and work together for the common good.

NOW, THEREFORE, I, JOSEPH R. BIDEN JR., President of the United States of America, by virtue of the authority vested in me by the Constitution and the laws of the United States, do hereby proclaim March 24, 2021, as Education and Sharing Day, U.S.A. I call upon all government officials, educators, volunteers, and all the people of the United States to observe this day with appropriate programs, ceremonies, and activities.

IN WITNESS WHEREOF, I have hereunto set my hand this twenty-third day of March, in the year of our Lord two thousand twenty-one, and of the Independence of the United States of America the two hundred and forty-fifth.

[FR Doc. 2021-06433

Filed 3-25-21; 8:45 am]

Billing code 3295-F1-P